DEPARTMENT OF COMMERCE

Foreign-Trade Zones Board

[Docket 27-2004]

Foreign-Trade Zone 15—Kansas City, Missouri, Area Application for Expansion

An application has been submitted to the Foreign-Trade Zones Board (the Board) by the Greater Kansas City Foreign Trade Zone, Inc., grantee of Foreign-Trade Zone 15, requesting authority to expand its zone in the Kansas City, Missouri, area, adjacent to the Kansas City, Missouri, Customs port of entry. The application was submitted pursuant to the provisions of the Foreign-Trade Zones Act, as amended (19 U.S.C. 81a-81u), and the regulations of the Board (15 CFR part 400). It was formally filed on June 18, 2004.

FTZ 15 was approved on March 23, 1973 (Board Order 93, 38 FR 8622, 4/4/73) and expanded on October 25, 1974 (Board Order 102, 39 FR 39487, 11/7/74); on February 28, 1996 (Board Order 804, 61 FR 9676, 3/11/96); on May 31, 1996 (Board Order 824, 61 FR 29529, 6/11/96); on December 8, 1997 (Board Order 934, 62 FR 65654, 12/15/97); on October 19, 1998 (Board Order 1004, 63 FR 59761, 11/5/98); on January 8, 1999 (Board Order 1016, 64 FR 3064, 1/20/99); on June 17, 1999 (Board Order 1042, 64 FR 34188, 6/25/99); and, on April 15, 2002 (Board Order 1226, 67 FR 20087, 4/24/02).

The zone project includes nine general-purpose sites in the Kansas City area: Site 1 (5.7 acres, 250,000 sq. ft.)—Midland International Corporation warehouse facility located at 1650 North Topping, Kansas City; Site 1A: (2.76 acres)—located at 1226 Topping Drive, Kansas City; Site 2 (64.3 acres, 2.8 million sq. ft.)—surface/underground warehouse complex located at 8300 NE Underground Drive, Kansas City; Site 3 (9,615 acres)—located within the 10,000-acre Kansas City International Airport facility; Site 3A (1 acre, 33,541 sq. ft.)—located at 10201 N. Everton, Kansas City; Site 3B (3 parcels, 384 acres total)—Kansas City: Parcel 1 (68 acres)—within the 330-acre Air World Center Business Park, located at Interstate 29 and 112th Street; Parcel 2 (155 acres)—Congress Corporate Center Industrial Park, located at the northwest corner of 112th Street and North Congress; and, Parcel 3 (161 acres)—city-owned Harley Davidson Site; Site 4 (416 acres)—Carefree Industrial Park, 1600 NM-291 Highway, Sugar Creek/Independence; Site 5 (1,000 acres, 5.75 million sq. ft.)—CARMAR Underground Business Park/CARMAR Industrial Park, No. 1 Civil War Road, Carthage; Site 6 (28,000 sq. ft., 11 acres)—Laser Light Technologies, Inc., facility located within the Hermann Industrial Park, 5 Danuser Drive, Hermann (expires 12/31/05); Site 7 (1,750 acres)—Richards-Gebaur Memorial Airport/Industrial Park complex, 1540 Maxwell, Kansas City; Site 8 (168 acres, 3 parcels)—Chillicothe: Site 8A (3 acres)—Midwest Quality Gloves, Inc., warehouse facility, 600 Brunswick (expires 10/1/04); Site 8B (11 acres)—Chillicothe-Brunswick Rail Yard, Washington Street (expires 5/31/04); Site 8C (154 acres, 50,000 sq. ft.)—within the Chillicothe Industrial Park, Corporate Road (expires 5/31/04); Site 9: (50 acres, 2 parcels)—St Joseph: Parcel 1 (200,000 sq. ft., 25 acres) located at 2307 Alabama Street and Parcel 2 (169,000 sq. ft., 25 acres) located at 2326 Lower Lake Road.

The applicant is now requesting authority to remove Site 8B (Chillicothe-Brunswick Rail Yard) and Site 8C (Chillicothe Industrial Park) from the general-purpose zone project that expired on May 31, 2004, and to also remove Site 8A (Midwest Quality Gloves warehouse facility) from the zone project that expires on October 1, 2004. The applicant is also requesting authority to expand the zone to include another site in Chillicothe (new proposed Site 8, 19.57 acres) located at Ryan Road and Brunswick Road. The proposed site is located within the industrial section of Chillicothe. The property is owned by the Chillicothe Development Corporation.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is August 24, 2004. Rebuttal comments in response to material submitted during the foregoing period may be submitted during the subsequent 15-day period (to September 8, 2004).

A copy of the application and accompanying exhibits will be available during this time for public inspection at address Number 1 listed above, and at the U.S. Department of Commerce Export Assistance Center, 2345 Grand Boulevard, Suite 650, Kansas City, MO 64108.

Dated: June 21, 2004.
Pierre V. Duy,
Acting Executive Secretary.

[FR Doc. 04-14496 Filed 6-24-04; 8:45 am]

BILLING CODE 3510-DS-P